DEPARTMENT OF LABOR

Employment and Training Administration

[TA-W-63,547]

Lapeer Metal Stamping, Lapeer, MI; Notice of Termination of Investigation

Pursuant to Section 221 of the Trade Act of 1974, as amended, an investigation was initiated on June 17, 2008 in response to a petition filed on behalf of workers of Lapeer Metal Stamping, Lapeer, Michigan.

The petitioning group of workers are covered under by the earlier petition, (TA-W-63,469) filed on June 3, 2008 that is the subject of an ongoing investigation for which a determination has not yet been issued. Further investigation in this case would duplicate efforts and serve no purpose; therefore the investigation under this petition has been terminated.

Signed at Washington, DC, this 20th day of June, 2008.
Linda G. Poole,
Certifying Officer, Division of Trade Adjustment Assistance.

[FR Doc. E8-14607 Filed 6-26-08; 8:45 am]

BILLING CODE 4510-FN-P